FEDERAL MARITIME COMMISSION

Ocean Transportation Intermediary License; Applicants

Notice is hereby given that the following applicants have filed with the Federal Maritime Commission an application for a license as a Non-Vessel-Operating Common Carrier (NVO) and/or Ocean Freight Forwarder (OFF)-Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

AB Global Logistics Consulting Inc. (OFF), 1010 19th Street, #10, Santa Monica, CA 90403. Officer: Andrea Bigi, President (Qualifying Individual), Application Type: Business Structure Change.

Alibaba Global Shipping Inc (NVO), 1260 57th Avenue, Oakland, CA 94621. Officers: Gary Sachs, CFO (Qualifying Individual); Ali Ismailzada, CEO/President, Application Type: New NVO License.

All Transport Export Inc (NVO & OFF), 4224 Shackleford Road, #3, Norcross, GA 30093. Officer: Valery Baranouski, President/Secretary (Qualifying Individual), Application Type: New NVO & OFF License.

Associated Global Systems, Inc. (NVO & OFF), 3333 New Hyde Park Road, #207, New Hyde Park, NY 11042. Officers: James N. Tucci, Chief Executive Officer/Secretary (Qualifying Individual); Tanya Freeman, Director, Application Type: QI Change.

Broom U.S.A., Inc. (NVO & OFF), 2149 NW., 79th Avenue, Miami, FL 33122. Officers: Julian A. Scattolini, Vice President/Director/Secretary (Qualifying Individual); Hector A. Espinoza, President, Application Type: New NVO & OFF License.

Centro Marine Freight Forward, LLC (OFF), 155 S. Kingsley Drive, Los Angeles, CA 90004. Officers: Ana Serrano, Managing Member (Qualifying Individual); Victor Ortiz, Member Application Type: New OFF License.

Cargo Management Group Inc. dba CMG (NVO & OFF), 6124 NW., 74th Avenue, Miami, FL 33166. Officers: Cristian Afanador, Vice President (Qualifying Individual); Vivian Cobo-Afanador, President/Secretary/Treasurer/Dir., Application Type: Name Change.

CR & J Logistics, Inc. (OFF), 8401 Lake Worth Road, Lake Worth, FL 33467. Officers: Joseph G. Mazzarise, Vice President (Qualifying Individual); Ronald S. Penn, President, Application Type: New OFF License.

Earth Relocation Inc (NVO & OFF), 239 Washington Street, #404, Jersey City, NJ 07302. Officers: Samir Shah, Vice President Operations/Secretary (Qualifying Individual); Falguni Patel, President/Treasurer, Application Type: New NVO & OFF License.

H S H K, Corp. (NVO & OFF), 19 Plymouth Road, Staten Island, NY 10314. Officer: Hanan W. Seif, President/VP/Secretary/Treasurer (Qualifying Individual); Application Type: Add NVO License.

Interlog USA, Inc. (NVO), 2818A Anthony Lane S., Minneapolis, MN 55418. Officers: Brent A. Koughan, Secretary/Treasurer (Qualifying Individual); David K. Canfield, President, Application Type: QI Change.

Inter-Trade Liner Shipping Co., Inc. (NVO), 2196 Signal Place, San Pedro, CA 90731. Officer: Kyung H. Oh, Dir./Pres./Sec./Treas./CFO/VP (Qualifying Individual); Application Type: New NVO License.

J & S Infinity, Inc. (NVO), 226 2nd Street, #B, Palisades Park, NJ 07650. Officers: Choong G. Jung, Vice President (Qualifying Individual); Sang W. Song, President/Secretary/Treasurer, Application Type: New NVO License.

JS Logistics, Inc. (NVO), 5116 Buckwheat, Chino Hills, CA 91709. Officers: Lee Wong, Secretary/Treasurer/CFO (Qualifying Individual); Victor L. Sheng, Director/President/CEO, Application Type: Name Change.

Korea Express U.S.A. Inc. dba Korea Express Lines (NVO & OFF), 11 Commerce Ct West, Cranbury, NJ 08512. Officers: Tony S. Chon, Assistant Secretary (Qualifying Individual); Sang G. Lee, President/CEO/Treasurer, Application Type: QI Change.

LDS Global Corp (NVO & OFF), 2 East Union Avenue, East Rutherford, NJ 07073. Officer: James M. Ryoo, President/Treasurer/Secretary (Qualifying Individual); Application Type: New NVO & OFF License.

Rapidex USA LLC (NVO), 71 Veronica Avenue, Suite 2, Somerset, NJ 08873. Officers: Mohamed Y. Ali, Manager (Qualifying Individual); Abdul S. Mohamed, Member, Application Type: New NVO License.

Speedier Shipping Inc. (NVO), 120 Horace Harding Blvd., Great Neck, NY 11020. Officers: Kasinee Thongprasert, President/Secretary/Treasurer (Qualifying Individual); Application Type: New NVO License.

Straight Line Logistics, LLC (NVO & OFF), 2250 NW 96th Avenue, Suite 209, Doral, FL 33172. Officers: Carlos H. Ortiz, Managing Member/Director, (Qualifying Individual); Felice G. Snider, Manager/Director, Application Type: New NVO & OFF License.

Thuan Loi Shipping (NVO), 7771 Garvey Avenue, #D, Rosemead, CA 91770. Officer: Stacy Duong, CEO/Secretary/CFO (Qualifying Individual); Application Type: New NVO License.

Dated: October 14, 2011.
Rachel E. Dickon,
Assistant Secretary.

[FR Doc. 2011-27124 Filed 10-19-11; 8:45 am]

BILLING CODE 6730-01-P